DEPARTMENT OF THE INTERIOR

Bureau of Land Management

[BLM_NM_FRN_MO4500180051; NMNM-035829]

Notice of Application for Withdrawal Extension, Public Meeting, and Availability of a Legislative Environmental Assessment; McGregor Range, New Mexico

AGENCY: Bureau of Land Management, Interior.

ACTION: Notice of proposed extension.

SUMMARY: The Department of the Army (Army) filed an application with the Bureau of Land Management (BLM) for extension of the withdrawal of public lands for the Army's use for the McGregor Range, located in Otero County, New Mexico. The McGregor Range encompasses 608,385 acres that Congress withdrew from all forms of appropriation under the public land laws, including the mining, mineral leasing, and geothermal leasing laws, subject to valid existing rights, for a 25-year period and reserved for the Army's use. The current withdrawal will expire on November 6, 2026, unless Congress approves the extension. This notice advises the public of an opportunity to comment on the application, attend a public meeting, and review the legislative environmental assessment (EA).

DATES: Comments regarding this withdrawal application must be received by December 26, 2024. In addition, the BLM and the Army will host public meetings addressing the withdrawal application.

The BLM and the Army will hold a virtual public meeting in connection with the proposed withdrawal extension on November 20, 2024, via Zoom at 6 p.m. (Mountain Time). To register for the meeting, visit https://blm.zoomgov.com/webinar/register/WN_0NWB3vqpSUuJzi955PHQpw.

ADDRESSES: All comments should be sent to State Director, Bureau of Land Management, New Mexico State Office, 301 Dinosaur Trail, Santa Fe, New Mexico 87508.

FOR FURTHER INFORMATION CONTACT: Jillian Aragon, Project Manager, Bureau of Land Management, New Mexico State Office, telephone: 505-564-7722 or email: jgaragon@blm.gov.

Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: Section 3011(d) of the Military Lands Withdrawal Act (MLWA) of 1999 (Pub. L. 106-65) withdrew approximately 608,385 acres of public land for the McGregor Range from all forms of appropriation under public land laws and reserved them for use by the Army. The withdrawal will expire on November 6, 2026, unless extended by Congress. The Army has filed an application for extension of the current withdrawal for 25 years. Extension of the withdrawal is warranted by the purpose of the withdrawal established by Congress: to allow for continued military use of the McGregor Range, which is used to train military personnel and test equipment to meet nationally directed missions and requirements.

The public land withdrawn under Public Law 106-65 encompasses approximately 608,385 acres in Otero County, New Mexico. As noted in a previous Federal Register notice (66 FR 26881, May 15, 2001), this land is accurately described under a previous Federal Register notice (52 FR 18960, May 20, 1987) and two Federal Register correction notices (52 FR 22577, June 12, 1987; 52 FR 26188, July 13, 1987).

The Engle Act (Pub. L. 85-337, 43 U.S.C. 155-157) requires withdrawals for defense purposes of more than 5,000 acres in the aggregate for any one defense project or facility to be authorized by an Act of Congress. Section 3016 of the MLWA requires the Army to notify the Secretary of the Interior and Congress whether there is a continuing military need for the withdrawn land. The Army and the Department of the Interior (DOI) intend to submit a legislative proposal for extension of the withdrawal and reservation to Congress not later than May 1, 2025.

As required by section 204(b)(1) of the Federal Land Policy and Management Act of 1976, 43 U.S.C. 1714(b)(1), and BLM regulations at 43 CFR part 2300, the BLM is publishing notice of the Army's application. While the BLM and the DOI assist the Army with the processing of withdrawal applications, and the Secretary of the Interior makes a recommendation to Congress on applications for withdrawals of this size for defense purposes, Congress will decide whether to extend the existing withdrawal for the McGregor Range.

The Army is preparing a legislative EA in support of the legislative proposal and is conducting public scoping under NEPA. The Army will host a joint virtual public scoping meeting and will accept comments on potential alternatives, potential environment impacts, information, and analyses relevant to the proposed action. The BLM is participating as a cooperating agency in the preparation of the legislative EA. Information on the environmental review process can be viewed using the link in the ADDRESSES section. This notice invites the public to comment on the application for withdrawal extension, notifies the public that a public meeting will occur, and provides the opportunity for the public to review the legislative EA.

For a period until December 26, 2024, all persons who wish to submit comments in connection with the withdrawal application and the legislative EA may present their comments in writing to the address listed in the ADDRESSES section. All comments received will be considered before the Secretary of the Interior makes any recommendation to Congress.

Before including your address, phone number, email address, or other personal identifying information in your comment, you should be aware that your entire comment, including your personal identifying information, may be made publicly available at any time. While you can ask us in your comment to withhold your personal identifying information from public review, we cannot guarantee that we will be able to do so.

The withdrawal extension application will be processed in accordance with MLWA, and to the extent consistent with MWLA, the regulations set forth in 43 CFR 2310.4.

(Authority: 43 CFR 2310.4)

Melanie G. Barnes,
State Director.

[FR Doc. 2024-22130 Filed 9-26-24; 8:45 am]

BILLING CODE 4331-23-P